DEPARTMENT OF ENERGY

Federal Energy Regulatory Commission

[Project No. 9074-054]

Boralex Hydro Operations, Inc.; Notice of Application Tendered for Filing With the Commission and Soliciting Additional Study Requests and Establishing Procedural Schedule for Licensing and a Deadline for Submission of Final Amendments

Take notice that the following hydroelectric application has been filed with the Commission and is available for public inspection.

a. Type of Application: New Major License.

b. Project No.: 9074-054.

c. Date filed: December 31, 2024.

d. Applicant: Boralex Hydro Operations, Inc. (Boralex Hydro).

e. Name of Project: Warrensburg Hydroelectric Project.

f. Location: On Schroon River, Warrensburg, Warren County, New York.

g. Filed Pursuant to: Federal Power Act 16 U.S.C. 791(a)—825(r).

h. Applicant Contact: Erik Bergman, Boralex Hydro Operations, 39 Hudson Falls Road, South Glens Falls, NY 12803; Phone at (518) 480-3962.

i. FERC Contact: Prabha Madduri at 202-502-8017, or prabharanjani.madduri@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: March 1, 2025 ¹

¹ Pursuant to section 385.2007 of the Commission's regulations, if a due date falls on a weekend or holiday, the due date moves to the next Commission business day.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Warrensburg Hydroelectric Project (P-9074-054).

m. The application is not ready for environmental analysis at this time.

n. The Warrensburg Hydroelectric Project consists of: (a) a broad crested concrete gravity dam, 184-feet-long and 22.5-feet-high, with nine 6-foot-high and 18-foot-wide hydraulically operated steel flashboards and one 6-foot-high and 18-foot-wide crest gate; (b) a 55-acre impoundment at elevation 643.6 feet National Geodetic Vertical Datum of 1929 (NGVD29), with a gross storage capacity of 500 acre-feet; (c) a 3-foot-wide by 40-foot-long intake equipped with a trash rack with 3.5 inch spacing; (d) a 38-foot by 88-foot concrete powerhouse containing a single Kaplan turbine-generating unit rated at 2,900 kW at an average net head of 28 feet, with a hydraulic capacity of 1,565 cubic feet per second and an average annual output of 11.7 GWh; (d) a reinforced concrete retaining wall, integral with the powerhouse, backfilled to an elevation of 653-feet; (e) a 171-foot-long, 120-foot wide riprap-lined tailrace channel; (e) a 0.7 mile, 34.5 kilovolt transmission line connecting to the Warrensburg Chesterton circuit; and (f) appurtenant facilities.

The Warrensburg Hydroelectric Project is operated in a run of river mode and Boralex Hydro proposes to continue operating the project in that mode.

o. A copy of the application can be viewed on the Commission's website at http://www.ferc.gov using the “eLibrary” link. Enter the docket number excluding the last three digits in the docket number field to access the document (P-9074). For assistance, contact FERC Online Support at FERCOnlineSupport@ferc.gov or call tollfree, (866) 208-3676 or (202) 502-8659 (TTY).

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Milestone | Target date
Issue Deficiency Letter (if necessary) | March 2025.
Request for Additional Information | March 2025.
Issue Notice of Acceptance | July 2025.
Issue Scoping Document 1 for comments | September 2025.
Request Additional Information (if necessary) | November 2025.
Issue Scoping Document 2 (if necessary) | December 2025.

Final amendments to the application must be filed with the Commission no later than 30 days from the issuance date of the notice of ready for environmental analysis.

Dated: January 13, 2025.
Debbie-Anne A. Reese,
Secretary.

[FR Doc. 2025-01860 Filed 1-28-25; 8:45 am]

BILLING CODE 6717-01-P